DEPARTMENT OF AGRICULTURE

Submission for OMB Review; Comment Request

June 18, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by July 24, 2015 will be considered. Written comments should be addressed to: Desk Officer for Agriculture, Office of Information and Regulatory Affairs, Office of Management and Budget (OMB), New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Census of Agriculture Content Test.

OMB Control Number: 0535-0243.

Summary of Collection: The purpose of the content test is to evaluate factors impacting the National Agricultural Statistics Service (NASS) Census of Agriculture program. The factors include, but are not limited to, respondent burden, questionnaire format and design, Internet instrument performance, new items, changes in question wording and location, ease of completion, and processing methodology such as edit and summary. The proposed forms and letters will be used in a test in 2015-2016 in preparation for taking the 2017 Census of Agriculture. NASS is responsible for conducting the Census of Agriculture under the authority of the Census of Agriculture Act of 1997, Public Law 105-113 (U.S.C. 2204g).

This is a reinstatement of the Census of Agriculture Content Test, which is conducted every five years prior to the full Census of Agriculture. The last content test was done in 2010 in preparation for the 2012 Census of Agriculture.

Need and Use of the Information: The Census of Agriculture Content Test is designed to evaluate a number of factors affecting the Census of Agriculture program. It is critical to NASS' ability to design a successful census survey. The actual Census of Agriculture is required by law every five years and serves as the basis for many agriculturally-based decisions. Less frequent content test collections would hinder NASS' ability to adequately evaluate changes needed to improve census data collection and therefore recognize changing trends in agriculture.

Description of Respondents: Farms.

Number of Respondents: 65,400.

Frequency of Responses: Reporting: Other (every 5 years).

Total Burden Hours: 42,552.

Charlene Parker,
Departmental Information Collection Clearance Officer.

[FR Doc. 2015-15434 Filed 6-23-15; 8:45 am]

BILLING CODE 3410-20-P